DEPARTMENT OF HOMELAND SECURITY

U.S. Customs and Border Protection

National Customs Automation Program Test Concerning Automated Commercial Environment (ACE) Entry Summary, Accounts, and Revenue

AGENCY: U.S. Customs and Border Protection, Department of Homeland Security.

ACTION: General notice.

SUMMARY: U.S. Customs and Border Protection (CBP) will be conducting a National Customs Automation Program (NCAP) test concerning Automated Commercial Environment (ACE) Entry Summary, Accounts, and Revenue (ESAR II) capabilities. These new capabilities will include functionality specific to the filing and processing of formal consumption entries and informal entries. This entry summary processing will include Automated Broker Interface (ABI) Census Warning Overrides and will accommodate the issuance of certain CBP forms through the ACE Portal. Other new functionality will enhance Portal Account Management and allow for ACE Secure Data Portal reporting. This document announces the deployment schedule for this test.

DATES: The test will begin no earlier than March 15, 2009, at each port identified in this notice as part of the first cluster of ports designated for deployment. The test will continue until concluded by way of announcement in the Federal Register. Comments concerning this notice and all aspects of the announced test may be submitted at any time during the test period.

ADDRESSES: Comments concerning this notice should be submitted via e-mail to Janet Pence at ESARinfoinbox@dhs.gov. Please indicate “ESAR II Federal Register Notice” in the subject line of your e-mail.

FOR FURTHER INFORMATION CONTACT: For policy-related questions, please contact Cynthia Whittenburg at cynthia.whittenburg@dhs.gov. For technical questions that are non-ABI related, please contact Katrina Marbley at (703) 650-3285. For technical questions related to ABI transmissions, please contact your assigned client representative. Parties without an assigned client representative should direct their questions to the Client Representative Branch at (703) 650-3500.

SUPPLEMENTARY INFORMATION:

Background

On August 26, 2008, CBP published a General Notice in the Federal Register (73 FR 50337) announcing the agency's plan to conduct a new test concerning ACE Entry Summary, Accounts, and Revenue (ESAR II) capabilities that will provide new Portal and Electronic Data Interchange (EDI) capabilities specific to Entry Summary filing and processing of consumption and informal entries. The notice stated that functionality will include ABI Census Warning Overrides and issuance of CBP requests for information and notices of action through the ACE Portal, and that new functionality will enhance Portal Account Management and allow for ACE Secure Data Portal reporting. The notice indicated that this release of ESAR II initially will be limited only to formal entries, commonly referred to in the Automated Commercial System (ACS) as type 01 entries, and informal entries, commonly referred to in ACS as type 11 entries. The notice listed the ports where the test was expected to be deployed and requested that interested ABI participants wishing to submit type 01 and 11 entries for this test provide to CBP, within 60 days of the date of publication of the notice, the number of expected ACE entry summaries that will be submitted to the listed ports.

Importer and broker volunteers wishing to benefit from Portal functionality available in this test were also advised that they must have an ACE Portal Account. ABI volunteers wishing to participate in this test were advised that they must have the ability to:

• File entries on a statement, i.e., no non-statement; single pay entry summaries will be allowed; and

• Use a software package that has completed ABI certification testing for ACE.

Changes to the Test

The August 26, 2008, notice indicated that participating importer, broker, and carrier Portal Account types will be able to maintain certain declarations in the ACE Secure Data Portal. The notice stated that declarations that will be supported via the Portal would include: Affidavits of manufacturers; North American Free Trade Agreement (NAFTA) Certificates of Origin; Non-Reimbursement Blanket Statements (Anti-Dumping/Countervailing Duty (AD/CVD)); certain marking rulings; and importer certifying statements. CBP is announcing in this notice that the ACE Portal will not be supporting “certain marking rulings.” All other declarations will be supported as noted in the August notice.

Additionally, CBP is announcing in this notice that, although this ESAR II test will support type 01 and 11 entry types filed through remote location filing, this will not be available on the first day of the test. CBP will support remote location filing at some point following the “go live” date of the test. CBP will issue a message to the trade via the “Cargo Systems Message System” alerting the trade that they may begin filing type 01 and 11 entries remotely.

Implementation of the Test

CBP received comments from 39 interested ABI participants in response to the August 26, 2008, notice. ABI respondents provided a breakdown of the anticipated type 01 and 11 ACE entry summaries to be submitted to the ports listed in the August 26, 2008, notice. All 39 ABI filers will receive e-mail notifications confirming their acceptance into the test.

Additionally, 17 software developers contacted their client representative with regard to their interest in ABI certification testing for ACE. All 17 software developers will be contacted by their client representative and will be advised as to the start of certification testing.

For purposes of this test, the system of origin (ACS or ACE) will determine the system of record for that entry summary. For example, if the entry summary is submitted in ACS, the system of record for that entry summary will be ACS. If the entry summary is submitted in ACE, the system of record for that entry summary will be ACE.

Based on the feedback received by CBP to the August 26, 2008, notice, CBP has determined that it will conduct the ESAR II test in a phased approach as set forth below.

I. Initial Stage—No Earlier Than March 15, 2009

At the initial stage of the test, transmission of ACE entry summaries will be limited to the following ports:

• Buffalo, New York;

• Chicago, Illinois;

• Long Beach, California; and

• Laredo, Texas.

Any of the 39 respondents who anticipate transmitting type 01 and 11 entries at the above indicated ports should do so no earlier than March 15, 2009.

For purposes of clarification, the port of Long Beach, California includes Long Beach (port code 2709) and Los Angeles (port code 2704), but does not include the Los Angeles Airport (port code 2720).

II. Second Stage—No Earlier Than April 15, 2009

During the second stage of the test, transmission of ACE entry summaries will be expanded to the following ports:

• Miami, Florida;

• New Orleans, Louisiana;

• Houston, Texas;

• San Francisco, California;

• Seattle, Washington;

• El Paso, Texas;

• Boston, Massachusetts;

• San Diego, California;

• Newark, New Jersey;

• J.F.K. Airport, New York;

• Baltimore, Maryland;

• Philadelphia, Pennsylvania;

• Cleveland, Ohio;

• Tucson, Arizona;

• Tampa, Florida;

• Detroit, Michigan; and

• Atlanta, Georgia.

Any of the 39 respondents who anticipate transmitting type 01 and 11 entries at the above indicated ports should do so no earlier than April 15, 2009.

III. Third Stage—No Earlier Than June 15, 2009

During the third and final stage of the test, transmission of ACE entry summaries will be expanded nationwide to all remaining ports.

Expansion of Participation

At this time, CBP would also like to invite any additional interested ABI applicants meeting the eligibility criteria specified in the August 26, 2008, notice to participate in the ESAR II test. Eligible ABI trade volunteers interested in submitting type 01 and 11 entries for this test to the ports identified above should contact their assigned client representative directly. Interested parties without an assigned client representative should contact the Client Representative Branch at (703) 650-3500. Filers will receive an e-mail notification confirming their acceptance into the test.

Interested software developers should similarly contact their client representative with regard to their interest in ABI certification testing for ACE. All software developers will be contacted by their client representative and will be advised as to the start of certification testing.

Acceptance into this test does not guarantee eligibility for, or acceptance into, future technical tests. Participation in the ESAR II test will be expanded in the future as funding allows; however, the eligibility criteria may differ from the criteria listed in this and the August 26, 2008, notice. Additionally, expansion of this test to allow participation by future applicants may be delayed due to funding or technological constraints.

As stated in previous notices, participation in this or any of the previous ACE tests is not confidential and upon a written Freedom of Information Act request, a name(s) of an approved participant(s) will be disclosed by CBP in accordance with 5 U.S.C. 552. If necessary, CBP will reserve the right to limit the number of participants and locations during the initial stages of the test.

Previous Notices

All requirements and aspects of the ESAR II test discussed in the August 26, 2008, notice as well as in any other previous notices, except to the extent expressly modified by this notice, are hereby incorporated by reference and continue to be applicable.

Dated: March 3, 2009.
Daniel Baldwin,
Assistant Commissioner, Office of International Trade.

[FR Doc. E9-4844 Filed 3-5-09; 8:45 am]

BILLING CODE 9111-14-P